DEPARTMENT OF JUSTICE

Notice of Lodging of Consent Decree Under the Clean Water Act

Notice is hereby given that on February 5, 2009, a proposed consent decree in United States v. Patriot Coal Corp. et al., Civil Action No. 2:09-cv-0099, was lodged with the United States District Court for the Southern District of West Virginia.

The proposed Consent Decree will resolve claims alleged in this action by the United States and the State of West Virginia against Patriot Coal Corporation et al. for the discharge of pollutants into waters of the United States in violation of Section 301 of the Act, 33 U.S.C. 1311, and in violation of the conditions and limitations of National Pollutant Discharge Elimination System (“NPDES”) permits issued by the State pursuant to Section 402 of the Act, 33 U.S.C. 1342, and W. Va. Code 22-11-8. Under the proposed Consent Decree, Defendants will perform injunctive relief including: Hiring a third-party consultant to develop and implement a company-wide compliance-focused environmental management system, creating a database to track information relevant to compliance efforts, conducting regular internal and third-party environmental compliance audits, implementing a system of tiered response actions for any potential future violations, conducting annual training for all employees and contractors with environmental responsibilities and/or responsibilities under the consent decree, and implementing stream restoration projects. In addition, Patriot will pay a civil penalty of $6.5 million.

The Department of Justice will accept comments relating to the proposed consent decree for a period of thirty (30) days from the date of publication of this notice. Comments should be addressed to the Assistant Attorney General, Environment and Natural Resources Division, and mailed either electronically to pubcomment-ees.enrd@usdoj.gov or in hard copy to P.O. Box 7611, U.S. Department of Justice, Washington, DC 20044-7611. Comments should refer to United States v. Patriot Coal Corp. et al., Civil No. 2:09-cv-0099 (S.D.W.Va.) and D.J. Reference No. 90-5-1-1-09476.

The proposed consent decree may be examined at: (1) the Office of the United States Attorney for the Southern District of West Virginia, 300 Virginia Street, East, Charleston, WV 25301; and (2) United States Environmental Protection Agency (Region 3), 1650 Arch Street, Philadelphia, PA 19103. During the comment period, the proposed consent decree may also be examined on the following Department of Justice Web site: http://www.usdoj.gov/enrd/Consent_Decree.html.

A copy of the proposed consent decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please refer to the referenced case and D.J. Reference No. 90-5-1-1-09476, and enclose a check in the amount of $32.5 for the consent decree (130 pages at 25 cents per page reproduction costs), made payable to the U.S. Treasury.

Robert Brook,
Assistant Chief, Environmental Enforcement Section, Environment and Natural Resources Division.

[FR Doc. E9-2788 Filed 2-10-09; 8:45 am]

BILLING CODE 4410-15-P